DEPARTMENT OF DEFENSE

Office of the Secretary

[Docket ID: DOD-2025-OS-0277]

Privacy Act of 1974; System of Records

AGENCY: Department of Defense (DoD).

ACTION: Notice of a new system of records.

SUMMARY: In accordance with the Privacy Act of 1974, the DoD is creating a new system of records titled “Suspension and Debarment Records,” DoD-0027. This system of records notice (SORN) is being established to collect and document decisions regarding suspension, debarment, or other administrative remedy under the Federal Acquisition Regulation, or the Non-procurement Common Rule. Additionally, DoD is issuing a Notice of Proposed Rulemaking, which proposes to exempt this system of records from certain provisions of the Privacy Act, elsewhere in today's issue of the Federal Register.

DATES: This system of records is effective upon publication; however, comments on the Routine Uses will be accepted on or before August 27, 2025. The Routine Uses are effective at the close of the comment period, unless comments have been received from interested members of the public that require modification and republication of the notice. Proposed exemptions are not effective until publication of the final rule.

ADDRESSES: You may submit comments, identified by docket number and title, by either of the following methods:

* Federal Rulemaking Portal: https://www.regulations.gov. Follow the instructions for submitting comments.

* Mail: Department of Defense, Office of the Assistant to the Secretary of Defense for Privacy, Civil Liberties, and Transparency, Regulatory Directorate, 4800 Mark Center Drive, Attn: Mailbox 24, Suite 05F16, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Rahwa Keleta, Defense Privacy and Civil Liberties Directorate, Office of the Assistant to the Secretary of Defense for Privacy, Civil Liberties, and Transparency, Department of Defense, 4800 Mark Center Drive, Mailbox #24, Suite 05F16, Alexandria, VA 22350-1700; osd.mc-alex.oatsd-pclt.mbx.pcld-sorn@mail.mil; (703) 571-0070.

SUPPLEMENTARY INFORMATION:

I. Background

The Suspension and Debarment Records system of records is used to process referrals for administrative remedies under the Federal Acquisition Regulation, Subpart 9.4, or the Non-procurement Common Rule, 2 CFR part 180, to provide relevant information to the Suspension and Debarment Official (SDO) for consideration in determining appropriate administrative remedies, and to document both the SDO decision and the underlying agency record.

The SDO has authority to exclude both business entities and individuals from contracting with the Federal Government and from participating in covered Federal non-procurement transactions such as grants, scholarships, cooperative agreements, loans, and loan guarantees. Grounds for exclusion include, but are not limited to, the following: commission of fraud or a criminal offense in connection with a Government contract or non-procurement transaction, failure to disclose overpayments received on contracts, failure to pay debts owed to the Federal Government, a history of poor performance on a contract or non-procurement transaction, and any other cause of so serious or compelling a nature that it affects the present responsibility of the business entity or individual. A full list of grounds for exclusion and the respondents' procedural rights are set forth in the regulations referenced above.

Documents maintained will include the notice of the exclusion and the administrative record supporting the action. The latter may include copies of the underlying contract or non-procurement transaction, communications between agency personnel and the respondent, law enforcement reports, audit results, and other relevant documents. If the respondent submits matters in opposition, these documents will also become part of the record.

DoD SORNs have been published in the Federal Register and are available from the address in FOR FURTHER INFORMATION CONTACT or at the Office of the Assistant to the Secretary of Defense for Privacy, Civil Liberties, and Transparency (OATSD (PCLT)) website at https://pclt.defense.gov/DIRECTORATES/Privacy-and-Civil-Liberties-Directorate/Privacy/SORNs/.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, OATSD (PCLT) has provided a report of this system of records to the OMB and to Congress.

Dated: July 23, 2025.
Aaron T. Siegel,
Alternate OSD Federal Register Liaison Officer, Department of Defense.

SYSTEM NAME AND NUMBER:

Suspension and Debarment Records, DoD-0027.

SECURITY CLASSIFICATION:

Unclassified.

SYSTEM LOCATIONS:

A. Department of Defense (Department or DoD), located at 1000 Defense Pentagon, Washington, DC 20301-1000, and other Department installations, offices, or mission locations.

B. Information may also be stored within a government-certified cloud, implemented and overseen by the Department's Chief Information Officer (CIO), 6000 Defense Pentagon, Washington, DC 20301-6000.

SYSTEM MANAGERS:

The system managers are as follows:

A. Chief, Acquisition Fraud Remedies, Office of General Counsel, Defense Health Agency, 7700 Arlington Blvd., Falls Church, VA 22042-5101.

B. General Counsel, Headquarters, Defense Logistics Agency, 8725 John J. Kingman Road, Suite 1644, Fort Belvoir, VA 22060-6221.

AUTHORITY FOR MAINTENANCE OF THE SYSTEM:

Federal Acquisition Streamlining Act of 1994, Public Law 103-355, Sec. 2455; Executive Order (E.O.) 12689, Debarment and Suspension (August 16, 1989), 54 FR 34131; E.O. 12549, Debarment and Suspension (February 18, 1986), 51 FR 6370; 2 Code of Federal Regulation (CFR) Part 180; 2 CFR Subtitle B, Chapter XI, Federal Agency Regulations for Grants and Agreements, Department of Defense, Part 1125; 48 CFR, Chapter 1, Federal Acquisition Regulation; 48 CFR Chapter 2, Defense Acquisition Regulations System, Department of Defense; and DoD Instruction 7050.05, Coordination of Remedies for Fraud and Corruption Related to Procurement Activities.

PURPOSE(S) OF THE SYSTEM:

To process referrals for administrative remedies under the Federal Acquisition Regulation or the Non-procurement Common Rule, to provide relevant information to the DoD Suspension and Debarment Official (SDO) for consideration in determining appropriate administrative remedies, and to document both the SDO decision and the underlying agency record.

CATEGORIES OF INDIVIDUALS COVERED BY THE SYSTEM:

Individuals who have been referred to the SDO for consideration of suspension and/or debarment under Federal Acquisition Regulation, Subpart 9.4 or the non-procurement common rule, Title 2 Code of Federal Regulations Part 180; and individuals who have been suspended, debarred, or entered into administrative agreements with the SDO.

CATEGORIES OF RECORDS IN THE SYSTEM:

Personal information, including name, address, nationality, and Social Security Number of the respondent; written referrals for suspension or debarment action; intra-agency and inter-agency communications regarding proposed or completed suspensions or debarments; notices to the respondent of suspensions and proposed debarments; evidence considered by the SDO, including, e.g., federal contracts or subcontracts, contractor performance assessment reports, contracting officer memoranda, audits, investigatory reports, and court documents such as information, indictments, plea agreements, judgments of conviction, and civil judgments; respondents' responses to notices and other communications; and SDO formal decisions.

RECORD SOURCE CATEGORIES:

Records and information stored in this system of records are obtained from: Individuals, contractors, Federal investigative organizations, federal and state court records, contracting officers, other officials or federal employees; departmental and other records containing information pertinent to suspension and debarment decisions.

ROUTINE USES OF RECORDS MAINTAINED IN THE SYSTEM, INCLUDING CATEGORIES OF USERS AND PURPOSES OF SUCH USES:

In addition to those disclosures generally permitted under 5 U.S.C. 552a(b) of the Privacy Act of 1974, as amended, all or a portion of the records or information contained herein may specifically be disclosed outside the DoD as a routine use pursuant to 5 U.S.C. 552a(b)(3) as follows:

A. To contractors, grantees, experts, consultants, students, and others performing or working on a contract, service, grant, cooperative agreement, or other assignment for the Federal Government when necessary to accomplish an agency function related to this system of records.

B. To the appropriate Federal, State, local, territorial, tribal, foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines that the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To another Federal, State, or local agency for the purpose of comparing to the agency's system of records or to non-Federal records, in coordination with an Office of Inspector General in conducting an audit, investigation, inspection, evaluation, or some other review as authorized by the Inspector General Act of 1978, as amended.

J. To such recipients and under such circumstances and procedures as are mandated by Federal statute or treaty.

K. To other Federal agencies, to coordinate suspension and debarment actions and to ensure prime contractors, participants in federal programs, and Federal agencies give effect to the Department's suspension and debarment decisions.

L. To General Service Administration's (GSA's) System for Award Management to maintain an Exclusion list in accordance with FAR 9.404 and 2 CFR 180.500-180.513, and to GSA for input into the Federal Awardee Performance and Integrity Information System (FAPIIS), which publicly discloses administrative agreements as required by Section 872 of The Duncan Hunter National Defense Authorization Act of 2009 (Pub. L. 110-417).

POLICIES AND PRACTICES FOR STORAGE OF RECORDS:

Records may be stored electronically or on paper in secure facilities in a locked drawer behind a locked door. The records may be stored on magnetic disc, tape, or digital media; in agency-owned cloud environments; or in vendor Cloud Service Offerings certified under the Federal Risk and Authorization Management Program (FedRAMP).

POLICIES AND PRACTICES FOR RETRIEVAL OF RECORDS:

Records may be retrieved by the name of the individual and/or legal entity referred for an exclusion action.

POLICIES AND PRACTICES FOR RETENTION AND DISPOSAL OF RECORDS:

Records are maintained until the end of the fiscal year three years following the termination of (a) an exclusion or administrative agreement or (b) the period in which a legal challenge may be brought, whichever is later. In the case of an action based on a violation of the Drug-Free Workplace Act, records are maintained until the end of the fiscal year five years following the termination of (a) an exclusion or administrative agreement or (b) the period in which a legal challenge may be brought, whichever is later. The records are then deleted. If there is more than one exclusion for the same entity/individual, e.g., a debarment following a suspension, the termination date of the last exclusion will apply to the entire record. In cases in which the SDO has declined to take action on a referral, the records will be destroyed at the end of the fiscal year three years following the date of the referral.

ADMINISTRATIVE, TECHNICAL, AND PHYSICAL SAFEGUARDS:

The DoD safeguards records in this system of records according to applicable rules, policies, and procedures, including all applicable DoD automated system security and access policies. DoD policies require the use of controls to minimize the risk of compromise of personally identifiable information (PII) in paper and electronic form and to enforce access by those with a need to know and with appropriate clearances. Additionally, the DoD established security audit and accountability policies and procedures which support the safeguarding of PII and detection of potential PII incidents. DoD routinely applies administrative, technical, and physical safeguards to information systems and paper recordkeeping systems such as the following: multifactor authentication, including CAC authentication and password; physical token as required; physical and technological access controls governing access to data; network encryption to protect data transmitted over the network; disk encryption security disks storing data; key management services to safeguard encryption keys; masking of sensitive data as practicable; mandatory information assurance and privacy training for individuals who will have access to sensitive data; identification and marking of PII; physical access safeguards including multifactor identification physical access controls, detection and electronic alert systems for access to servers and other network infrastructure, and electronic intrusion detection systems in DoD facilities.

RECORD ACCESS PROCEDURES:

Individuals seeking access to their records should follow the procedures in 32 CFR part 310. Individuals should address written inquiries to the DoD component with oversight of the records, as the component has Privacy Act responsibilities concerning access, amendment, and disclosure of the records within this system of records. The public may identify the contact information for the appropriate DoD office through the following website: www.FOIA.gov. Signed written requests should contain the name and number of the system of records notice along with full name, current address, and email address of the individual. If the requester is an owner or officer of a business concern holding a Defense Health Agency (DHA) contract or subcontract, the individual should also provide the name and Commercial and Government Entity (CAGE) code of the business concern. In addition, the requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents, and appealing initial Component determinations are contained in 32 CFR part 310, or may be obtained from the system manager.

NOTIFICATION PROCEDURES:

Individuals seeking to determine whether information about themselves is contained in this system of records should follow the instructions for Record Access Procedures above.

EXEMPTIONS PROMULGATED FOR THE SYSTEM:

DoD has exempted records maintained in this system from 5 U.S.C. 552a(c)(3); (d)(1), (2), (3), and (4); (e)(1), (e)(4)(G), (H), and (I); and (f) of the Privacy Act, pursuant to 5 U.S.C. 552a(k)(2) and (k)(5). In addition, when exempt records received from other systems of records become part of this system, the DoD also claims the same exemptions for those records that are claimed for the system(s) of records from which they were a part and claims any additional exemptions set forth here. An exemption rule for this system has been promulgated in accordance with the requirements of 5 U.S.C. 553(b)(1), (2), and (3), and (c), and published in 32 CFR part 310.

HISTORY:

None.

[FR Doc. 2025-14139 Filed 7-25-25; 8:45 am]

BILLING CODE 6001-FR-P